Title 3—

The President

Presidential Determination No. 2001-20 of July 2, 2001

Determination Under Section 402(c)(2)(A) of the Trade Act of 1974_Republic of Belarus

Memorandum for the Secretary of State

Pursuant to section 402(c)(2)(A) of the Trade Act of 1974 (Public Law 93-618, January 3, 1975; 88 Stat. 1978) as amended (the “Act”), I determine that a waiver by Executive Order of the application of subsections (a) and (b) of section 402 of the Act with respect to the Republic of Belarus will substantially promote the objectives of section 402.

On my behalf, please transmit this determination to the Speaker of the House of Representatives and to the President of the Senate.

You are authorized and directed to publish this determination in the Federal Register.

B

THE WHITE HOUSE,

Washington, July 2, 2001.

[FR Doc. 01-17964

Filed 7-16-01; 8:45 am]

Billing code 4710-10-M